DEPARTMENT OF HEALTH AND HUMAN SERVICES

Health Resources and Services Administration

Discretionary Grant Program

AGENCY: Health Resources and Services Administration (HRSA), Department of Health and Human Services (HHS).

ACTION: Notice of Class Deviation from Competition Requirements for the Maternal and Child Health Bureau's (MCHB) Autism Intervention Research Network on Behavioral Health and Autism Intervention Research Network on Physical Health programs.

SUMMARY: HRSA will be issuing a 1-year non-competitive continuation budget period beyond the planned 3-year project period for the Autism Intervention Research Network on Behavioral Health (AIR-B Network) and the Autism Intervention Research Network on Physical Health (AIR-P Network) programs. Approximately $1,500,000 in funding will be made available in the form of a cooperative agreement to the University of California Los Angeles (UCLA), Cooperative Agreement Number UA3MC11055, during the budget period of September 1, 2014, through August 31, 2015. Approximately $3,000,000 in funding will be made available in the form of a cooperative agreement to the Massachusetts General Hospital (MGH), Cooperative Agreement Number UA3MC11054, during the budget period of September 1, 2014, through August 31, 2015.

The AIR-B Network (UA3MC 11055) and the AIR-P Network (UA3MC11054) programs, CFDA No. 93.110, are authorized by the Public Health Service Act, § 399BB(f) (42 U.S.C. 280i-1(f)), as amended by the Combating Autism Reauthorization Act of 2011 (Pub. L. 112-32), which is scheduled to sunset on September 30, 2014.

The AIR-B Network is an interdisciplinary, multi-site network of researchers working together with communities to provide national leadership in research to improve the behavioral, mental, social, and/or cognitive health and wellbeing of children and adolescents with autism spectrum disorders (ASD) and other developmental disabilities. The AIR-B Network conducts protocol-based research to advance effective intervention strategies aimed at improving social and behavioral health and well-being among underserved children and adolescents with ASD, in both home and school settings; provides a research environment that is supportive of the professional development of emerging researchers interested in autism intervention research; disseminates critical information on its research findings to inform researchers, care providers, policymakers, other stakeholders in the field, and the public, including families with children and adolescents with ASD; and promotes the translation of network findings into practice settings and communities that will result in improved care.

The AIR-P Network is an interdisciplinary, multi-site research network of clinicians and researchers that provides national leadership in research to improve the physical health and well-being of children and adolescents with autism spectrum disorders (ASD) and other developmental disabilities. The AIR-P Network conducts protocol-based research to advance effective treatment strategies; develops and updates evidence-based guidelines and validates tools for interventions; provides a research environment that supports the professional development of emerging researchers interested in autism intervention research; disseminates critical information on its research findings to inform researchers, care providers, policymakers, other stakeholders in the field, and the public, including families with children and adolescents with ASD; and promotes the translation of findings into practice settings and communities that will result in improved care.

SUPPLEMENTARY INFORMATION:

Intended Recipients of the Award: The grantees of record (listed below).

Amount of the Non-Competitive Award:

• Up to $1,500,000 (AIR-B Network);

• Up to $3,000,000 (AIR-P Network).

CFDA Number: 93.110.

Current Project Period: 09/01/2011—08/31/2014.

Period of Funding: 9/1/2014-8/31/2015.

Authority: Public Health Service Act, § 399BB(f) (codified at 42 U.S.C. 280i-1(f)) and the Combating Autism Act of 2006 (Pub. L. 109-416), as amended by the Combating Autism Reauthorization Act of 2011 (Pub. L. 112-32), which is scheduled to sunset on 9/30/2014.

Justification: MCHB is extending funding for the currently funded AIR-B Network on and AIR-P Network programs by 1 year because the authority for these programs is scheduled to sunset on September 30, 2014, and a potential lapse in the authorization would result in the inability to continue to support them.

Should the legislation be reauthorized, a 1-year extension, beginning on September 1, 2014, will allow the grantees to wrap up current studies; strengthen dissemination efforts to stakeholders including providers, researchers, families, and partners in schools and communities that regularly serve children and adolescents with ASD and their families; and strengthen educational opportunities in communities by enhancing partnerships for community-based participatory research. The networks will also strengthen efforts in completing data analyses, manuscript submissions, and other products, and develop efforts within the approved scope of work for completion during the 1-year extension.

Because research networks are planned and developed as multi-year projects, without reauthorization, these projects will be initiated but not completed as planned. Should reauthorization not occur, the programs can be completed by the end of the 1-year extension on August 31, 2015. Delaying the competing cycle of the programs by 1 year will also allow MCHB to further examine these autism research networks and develop more effective programs, given the developing science in autism intervention. This will enable MCHB to better address emerging needs from HRSA's perspective and respond to any legislative authority.

FOR FURTHER INFORMATION CONTACT: Robin Harwood, Ph.D. and Hae Young Park, M.P.H., Division of Research, Maternal and Child Health Bureau, Health Resources and Services Administration, 5600 Fishers Lane, Room 18A-55, Rockville, Maryland 20857; rharwood@hrsa.gov, and hpark@hrsa.gov.

Grantee/organization name | Grant number | State | Fiscal year 2013 authorized funding level | Fiscal year 2014 estimated funding
The University of California Los Angeles | UA3MC11055 | CA | $1,850,000 | $1,500,000
The Massachusetts General Hospital | UA3MC11054 | MA | 3,997,517 | 3,000,000

Dated: May 29, 2014.
Mary K. Wakefield,
Administrator.

[FR Doc. 2014-13002 Filed 6-4-14; 8:45 am]

BILLING CODE 4165-15-P